DEPARTMENT OF COMMERCE

National Oceanic and Atmospheric Administration

Public Meeting of the Science Advisory Board

AGENCY: Office of Oceanic and Atmospheric Research (OAR), National Oceanic and Atmospheric Administration (NOAA), Department of Commerce (DOC).

ACTION: Notice of public meeting.

SUMMARY: This notice sets forth the schedule and proposed agenda for the meeting of the Science Advisory Board (SAB). The members will discuss issues outlined in the section on Matters to be Considered.

DATES: The meeting is scheduled for Wednesday, April 27, 2022, 9:30 a.m.-5:00 p.m. Eastern Daylight Time (EDT) and Thursday, April 28, 2022, 8:30 a.m.-12:15 p.m. Eastern Daylight Time (EDT). The time and the agenda topics described below are subject to change. For the latest agenda, please refer to the SAB website: https://sab.noaa.gov/index.php/current-meetings/.

ADDRESSES: The April 27 and 28, 2022 venue is to be determined; please check the website for the location. The link for the webinar registration for the April 27-28, 2022 meeting may be found here: https://sab.noaa.gov/index.php/current-meetings/.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at https://sab.noaa.gov/index.php/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The April 27-28, 2022 meeting will be open to public participation with a 15-minute public comment period at 4:45 p.m. Eastern Daylight Time (EDT) on Wednesday, April 27, 2022. The SAB expects that public statements presented at its meetings will not be repetitive of previously submitted verbal or written statements. In general, each individual or group making a verbal presentation will be limited to a total time of three minutes. Written comments for the April 27-28, 2022 meeting should be received in the SAB Executive Director's Office by April 20, 2022 to provide sufficient time for SAB review. Written comments received by the SAB Executive Director after this date will be distributed to the SAB, but may not be reviewed prior to the meeting date.

Special Accommodations: This meeting is physically accessible to people with disabilities. Requests for special accommodations may be directed to the Executive Director no later than 12 p.m. on April 20, 2022.

Matters to be Considered: The meeting on April 27-28 will include the (1) NOAA Update, (2) NOAA Science Update (3) Leadership in Coastal Resilience (4) NOAA Response to SAB Ecosystem Science and Management Working Group Report: Decision Making Under Deep Uncertainty, (5) Presentation and Discussion of SAB 2022 Work Plan Topics (6) NOAA Response to SAB Data Archiving and Access Requirements Working Group Report: Recommendations Concerning the NOAA Cloud Strategic Plan Actions and the NOAA Data Strategic Plan Actions (7) NOAA Response to SAB Climate Working Group Report: Advancing Earth System Prediction (8) NOAA Response to SAB Climate Working Group Report: Opportunity for COVID-19-related Earth System monitoring and prediction efforts as a result of worldwide shelter in place/stay at home policies (9) Review of the Draft 2022 Report to the United States Congress from the Environmental Information Services Working Group. Meeting materials, including work products, will be made available on the SAB website: https://sab.noaa.gov/index.php/current-meetings/.

Dave Holst,
Chief Financial Officer/Administrative Officer, Office of Oceanic and Atmospheric Research, National Oceanic and Atmospheric Administration.

[FR Doc. 2022-04979 Filed 3-8-22; 8:45 am]

BILLING CODE 3510-KD-P